DEPARTMENT OF COMMERCE

Patent and Trademark Office

Submission for OMB Review; Comment Request; Patent Processing

The United States Patent and Trademark Office (USPTO) will submit to the Office of Management and Budget (OMB) for clearance the following proposal for collection of information under the provisions of the Paperwork Reduction Act (44 U.S.C. Chapter 35).

Agency: United States Patent and Trademark Office, Commerce.

Title: Patent Processing.

OMB Control Number: 0651-0031.

Form Number(s): PTO/AIA/22, PTO/AIA/24, PTO/AIA/24B, PTO/AIA/31, PTO/AIA/32, PTO/AIA/33, PTO/AIA/40, PTO/AIA/41, PTO/AIA/96, PTO/SB/08a, PTO/SB/08b, PTO/SB/17i, PTO/SB/21, PTO/SB/22, PTO/SB/24, PTO/SB/24B, PTO/SB/25, PTO/SB/26, PTO/SB/27, PTO/SB/30, PTO/SB/31, PTO/SB/32, PTO/SB/33, PTO/SB/35, PTO/SB/36, PTO/SB/37, PTO/SB/38, PTO/SB/39, PTO/SB/43, PTO/SB/61, PTO/SB/63, PTO/SB/64, PTO/SB/64a, PTO/SB/67, PTO/SB/68, PTO/SB/91, PTO/SB/92, PTO/SB/96, PTO/SB/97, PTO/SB/130, PTO-2053-A/B, PTO-2054-A/B, PTO-2055-A/B, PTOL-413A, and PTOL-413C.

Type of Request: Regular.

Number of Respondents: 3,542,082.

Estimated Time per Response: The USPTO estimates that it will take approximately 5 minutes (0.08 hours) to 8 hours to complete a single item in this collection. This includes the time to gather the necessary information, create the documents, and submit the completed request to the USPTO.

Burden Hours: 3,628,380 hours.

Cost Burden: $952,456,245.00.

Needs and Uses: The United States Patent and Trademark Office (USPTO) is required by 35 U.S.C. 131 to examine an application for patent and, when appropriate, issue a patent. The USPTO is also required to publish patent applications, with certain exceptions, promptly after the expiration of a period of eighteen months from the earliest filing date for which a benefit is sought under Title 35, United States Code (“eighteen-month publication”). Certain situations may arise which require that additional information be supplied in order for the USPTO to further process the patent or application. The USPTO administers the statutes through various sections of the rules of practice in 37 CFR part 1. The information in this collection can be used by the USPTO to continue the processing of the patent or application to ensure that applicants are complying with the patent regulations and to aid in the prosecution of the application.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions on the Web site to view Department of Commerce collections currently under review by OMB.

Further information can be obtained by:

• Email: InformationCollection@uspto.gov. Include “0651-0031 copy request” in the subject line of the message.

• Mail: Marcie Lovett, Records Management Division Director, Office of the Chief Information Officer, United States Patent and Trademark Office, P.O. Box 1450, Alexandria, VA 22313-1450.

Written comments and recommendations for the proposed information collection should be sent on or before August 25, 2016 to Nicholas A. Fraser, OMB Desk Officer, via email to Nicholas_A._Fraser@omb.eop.gov, or by fax to 202-395-5167, marked to the attention of Nicholas A. Fraser.

Dated: July 19, 2016.
Marcie Lovett,
Records Management Division Director, OCIO, United States Patent and Trademark Office.

[FR Doc. 2016-17699 Filed 7-25-16; 8:45 am]

BILLING CODE 3510-16-P